DEPARTMENT OF HEALTH AND HUMAN SERVICES

Health Resources and Services Administration

Healthy Start Program

AGENCY: Health Resources and Services Administration, HHS.

ACTION: General notice.

Background: This notice supplements the 2005 HRSA announcement of the availability of fiscal year (FY) 2006 funding for new and competing continuation applications for Healthy Start. Healthy Start, authorized under section 330H of the Public Health Service Act, strengthens communities to effectively address the causes of infant mortality, low birth weight and other poor perinatal outcomes for women and infants. Recently, new guidance became available with regards to funding FY 2006 Healthy Start programs.

SUMMARY: The Conference Report (H.R. Rep. No. 109-337) accompanying the Departments of Labor, Health and Human Services, and Education, and Related Agencies Appropriations Act, 2006, indicates concurrence with the Senate report language regarding the recompetition of Healthy Start programs. Following the Senate Committee's recommendation in Senate Report 109-103, the Health Resources and Services Administration (HRSA) will give preference during the FY 2006 competition “to current and former grantees with expiring or recently expired project periods. This should include grantees whose grant applications were approved but not funded during fiscal year 2005.”

FOR FURTHER INFORMATION CONTACT: Maribeth Badura, Director, Division of Healthy Start and Perinatal Services, Maternal and Child Health Bureau, HRSA, Room 18-20, Parklawn Building, 5600 Fishers Lane, Rockville, Maryland 20857; telephone (301) 443-0543; e-mail MBadura@hrsa.gov.

Dated: February 6, 2006.
Elizabeth M. Duke,
Administrator.

[FR Doc. 06-1282 Filed 2-10-06; 8:45 am]

BILLING CODE 4165-15-P